DEPARTMENT OF LABOR

Employment and Training Administration

[TA-W-54,143]

Elizabeth Weaving, Inc., Elite Textile Limited, Blacksburg, SC; Amended Certification Regarding Eligibility To Apply for Worker Adjustment Assistance

In accordance with section 223 of the Trade Act of 1974 (19 U.S.C. 2273) the Department of Labor issued a Certification of Eligibility To Apply for Worker Adjustment Assistance on March 2, 2004, applicable to workers of Elizabeth Weaving, Inc., Grover, North Carolina. The notice was published in the Federal Register on April 6, 2004 (69 FR 18110). The certification was amended on March 2, 2004, to correct the city and state location of the subject firm. The notice was published in the Federal Register on April 16, 2004 (69 FR 20643).

At the request of the State agency, the Department reviewed the certification for workers of the subject firm. The workers were engaged in the production of upholstery fabric.

New information shows that workers separated from employment at the subject firm from June 30, 2003, until March 12, 2004, had their wages reported under a separate unemployment insurance (UI) tax account for Elite Textile Limited.

Accordingly, the Department is amending the certification to properly reflect this matter.

The intent of the Department's certification is to include all workers of Elizabeth Weaving, Inc., Blacksburg, South Carolina, who were adversely affected by increased imports.

The amended notice applicable to TA-W-54,143 is hereby issued as follows:

All workers of Elizabeth Weaving, Inc., Elite Textile, Limited, Blacksburg, South Carolina, who became totally or partially separated from employment on or after January 21, 2003, through March 2, 2006, are eligible to apply for adjustment assistance under section 223 of the Trade Act of 1974.

Signed at Washington, DC, this 30th day of April, 2004.
Elliott S. Kushner,
Certifying Officer, Division of Trade Adjustment Assistance.

[FR Doc. 04-10860 Filed 5-12-04; 8:45 am]

BILLING CODE 4510-30-P